DEPARTMENT OF HOMELAND SECURITY

U.S. Customs and Border Protection

[Docket No. USCBP-2017-0028]

Commercial Customs Operations Advisory Committee (COAC)

AGENCY: U.S. Customs and Border Protection (CBP), Department of Homeland Security (DHS).

ACTION: Committee Management; Notice of Federal Advisory Committee Meeting.

SUMMARY: The Commercial Customs Operations Advisory Committee (COAC) will hold its quarterly meeting on Wednesday, August 23, 2017, in San Diego, California. The meeting will be open to the public.

DATES: The COAC will meet on Wednesday, August 23, 2017, from 9:00 a.m. to 1:00 p.m. PDT. Please note that the meeting may close early if the committee has completed its business.

Pre-Registration: Meeting participants may attend either in person or via webinar after pre-registering using one of the methods indicated below:

For members of the public who plan to attend the meeting in person, please register by 5:00 p.m. EDT by August 22, 2017, either online at https://apps.cbp.gov/te_reg/index.asp?w=115; by email to tradeevents@dhs.gov; or by fax to (202) 325-4290. You must register prior to the meeting in order to attend the meeting in person.

For members of the public who plan to participate via webinar, please register online at https://apps.cbp.gov/te_reg/index.asp?w=114 by 5:00 p.m. EDT by August 22, 2017.

Please feel free to share this information with other interested members of your organization or association.

Members of the public who are pre-registered and later need to cancel, please do so by August 22, 2017, utilizing the following links: https://apps.cbp.gov/te_reg/cancel.asp?w=115 to cancel an in person registration or https://apps.cbp.gov/te_reg/cancel.asp?w=114 to cancel a webinar registration.

ADDRESSES: The meeting will be held at the Omni Hotel, 675 L Street, San Diego, CA 92101. For information on facilities or services for individuals with disabilities or to request special assistance at the meeting, contact Ms. Florence Constant-Gibson, Office of Trade Relations, U.S. Customs & Border Protection, at (202) 344-1440, as soon as possible.

To facilitate public participation, we are inviting public comment on the issues the committee will consider prior to the formulation of recommendations as listed in the “Agenda” section below.

Comments must be submitted in writing no later than August 10, 2017, and must be identified by Docket No. USCBP-2017-0028, and may be submitted by one (1) of the following methods:

• Federal eRulemaking Portal: http://www.regulations.gov. Follow the instructions for submitting comments.

• Email: Tradeevents@dhs.gov. Include the docket number in the subject line of the message.

• Fax: (202) 325-4290, Attention: Florence Constant-Gibson.

• Mail: Ms. Florence Constant-Gibson, Office of Trade Relations, U.S. Customs and Border Protection, 1300 Pennsylvania Avenue NW., Room 3.5A, Washington, DC 20229.

Instructions: All submissions received must include the words “Department of Homeland Security” and the docket number (USCBP-2017-0028) for this action. Comments received will be posted without alteration at http://www.regulations.gov. Please do not submit personal information to this docket.

Docket: For access to the docket or to read background documents or comments, go to http://www.regulations.gov and search for Docket Number USCBP-2017-0028. To submit a comment, click the “Comment Now!” button located on the top-right hand side of the docket page.

There will be multiple public comment periods held during the meeting on August 23, 2017. Speakers are requested to limit their comments to two (2) minutes or less to facilitate greater participation. Contact the individual listed below to register as a speaker. Please note that the public comment period for speakers may end before the time indicated on the schedule that is posted on the CBP Web page, http://www.cbp.gov/trade/stakeholder-engagement/coac.

FOR FURTHER INFORMATION CONTACT: Ms. Florence Constant-Gibson, Office of Trade Relations, U.S. Customs and Border Protection, 1300 Pennsylvania Avenue NW., Room 3.5A, Washington, DC 20229; telephone (202) 344-1440; facsimile (202) 325-4290 OR Ms. Valarie Neuhart, Acting Director and Designated Federal Officer, can also be reached at (202) 344-1440.

SUPPLEMENTARY INFORMATION: Notice of this meeting is given under the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Agenda

The COAC will hear from the following subcommittees on the topics listed below and then will review, deliberate, provide observations, and formulate recommendations on how to proceed:

1. The Trade Modernization Subcommittee will discuss and deliver recommendations related to the subcommittee's International Engagement and Trade Facilitation Working Group which is identifying examples of best practices in the U.S. and abroad that facilitate trade. The subcommittee will also discuss the progress of the E-Commerce Working Group and will deliver recommendations related to the subcommittee's Section 321 Working Group. The Section 321 Working Group has focused on facilitative methods for the processing of low value “de-minimis” shipments while maintaining security and compliance.

2. The One U.S. Government Subcommittee will discuss the progress of the Fish & Wildlife Service Working Group and will present recommendations in this area. The subcommittee will also discuss the progress of the Automated Commercial Environment core functions and the Single Window Effort, including the North American Single Window progress.

3. The Global Supply Chain Subcommittee will present their involvement in the present draft of an updated supply chain security Customs-Trade Partnership Against Terrorism (C-TPAT) best practice framework, provide an update to on-going input work regarding the C-TPAT minimum security criteria, and a progress report with recommendations from the Pipeline Working Group.

4. The Trusted Trader Subcommittee will continue the discussion for an enhanced Trusted Trader program that includes engagement with CBP to include relevant partner government agencies with a potential for international interoperability. A review of the pilot program status and benefits will also be undertaken in parallel to determine the optimum benefits that would be assigned to Trusted Trader participants.

5. The Trade Enforcement & Revenue Collection (TERC) Subcommittee will discuss the progress made on TERC recommendations and updates from the Anti-Dumping and Countervailing Duty, Bond, Forced Labor, and Intellectual Property Rights Working Groups.

6. The Exports Subcommittee will discuss the Post Departure Filing (PDF) working group's progress in developing additional recommendations for an implementation plan of the PDF Proposal and will include steps to initiate a proof of concept that incorporates the PDF model in conjunction with the Ocean Export Manifest pilot. The subcommittee will also discuss the progress of the Truck Manifest Sub-Working Group recommendations presented at the March 1, 2017 public meeting, and progress on issues with the ongoing manifest pilots.

Meeting materials will be available by August 20, 2017, at: http://www.cbp.gov/trade/stakeholder-engagement/coac/coac-public-meetings.

Dated: July 27, 2017.
Bradley Hayes,
Executive Director, Office of Trade Relations.

[FR Doc. 2017-16360 Filed 8-2-17; 8:45 am]

BILLING CODE 9111-14-P